DEPARTMENT OF COMMERCE

National Oceanic and Atmospheric Administration

Restoration and Compensation Determination Plan and Environmental Assessment: Aluminum Production Plants and Engine Manufacturer, St. Lawrence River, Massena, NY

AGENCY: National Oceanic and Atmospheric Administration (NOAA), Commerce.

ACTION: Notice of Availability of the Restoration and Compensation Determination Plan and Environmental Assessment for natural resource injuries and service losses associated with the release of hazardous substances from two aluminum production plants and one engine manufacturer into the St. Lawrence River environment near Massena, New York.

SUMMARY: Pursuant to the requirements of the Comprehensive Environmental Response, Compensation and Liability Act of 1980, as amended (CERCLA) notice is hereby given that a document entitled, “St. Lawrence Environment Restoration and Compensation Determination Plan and Environmental Assessment” (RCDP) is being made available for public review.

This RCDP has been approved by the State, Federal and Tribal Natural Resource Trustee agencies (the Trustees) including: the National Oceanic and Atmospheric Administration (NOAA), acting on behalf of the Department of Commerce; United States Fish & Wildlife Service, acting on behalf of the Bureau of Indian Affairs and the U. S. Department of the Interior (USFWS/DOI); and the State of New York; and the St. Regis Mohawk Tribe. The Trustees act on behalf of the public under CERCLA and State law to protect and restore natural resources injured or lost as a result of releases or the threat of a release of a hazardous substance.

Public Review and Comment: The publication of this notice opens the period for public comment on the RCDP. Two information public meetings will be held during the public comment period in Massena and Akwesasne, N.Y. All comments must be submitted no later than thirty (30) days after the publication date in this Federal Register. Comments may be sent electronically or in written form. Written comments may be sent to: Lisa Rosman, NOAA, Assessment and Restoration Division, 290 Broadway, 20th Floor, New York, NY 10007. Electronic comments may be sent directly to: lisa.rosman@noaa.gov.

Please provide a subject line, indicating that your comments relate to restoration planning for the St. Lawrence NRDA settlements. Any comments received will become part of the administrative record and will be available to the public. Please be aware that your entire comment—including your personal identifying information—may be made publicly available.

FOR FURTHER INFORMATION CONTACT: The RCDP is available for downloading at http://www.darrp.noaa.gov/northeast/lawrence/index.html (by clicking on Case Documents and the document title under Restoration Planning on that page). Copies of the RCDP are also available at: (1) St. Regis Mohawk Tribe Environment Division, 449 Frogtown Road, Akwesasne, NY 13655, By Appointment: (518) 358-5937; (2) Akwesasne Library, 321 State Route 37, Akwesasne, NY 13655, (518)-358-2240; (3) Massena Public Library, 41 Glenn Street, Massena, NY 13662, (315)-769-9914. The document will also be posted to the St. Regis Mohawk Tribe http://www.srmtenv.org/index.php?spec=nrda_main and the U.S. Fish and Wildlife Service Web site http://www.fws.gov/northeast/nyfo/ec/nrda.htm. Meeting dates will be posted to the trustee Web sites listed above. Requests for further information can be obtained through Lisa Rosman at the contact information provided above.

SUPPLEMENTARY INFORMATION: Injuries to natural resources have occurred as a result of releases of hazardous substances from industrial facilities owned by Alcoa, Inc., Reynolds Metals Co., and General Motors Central Foundry near Massena, St. Lawrence County, New York. The RCDP describes the natural resource injuries and associated losses and outlines proposed restoration projects. Hazardous substances released from these industries included polychlorinated biphenyls (PCBs), polycyclic aromatic hydrocarbons (PAHs), aluminum, fluoride, and cyanide. These hazardous substances have injured natural resources and the habitats which support them in the vicinity of the facilities, including the Mohawk community of Akwesasne, preventing the practice of traditional cultural practices by the Mohawk Community, and resulting in the issuance of fish consumption advisories.

Proposed Restoration: The trustees negotiated a settlement which requires the responsible parties, Alcoa Inc. and Reynolds Metals Co. to pay damages to compensate the public for the injuries to natural resources and lost human use of the resources. The 2013 Consent Decree establishing this settlement has been lodged in United States District Court for the Northern District of New York and will be the subject of a separate Federal Register notice and public comment period. Pursuant to the Consent Decree, the trustees expect to receive approximately $18.5 million in cash and projects from Alcoa and Reynolds for restoration. In addition, the trustees have received approximately $1.8 million in restoration funds from a 2011 General Motors bankruptcy settlement.

The Trustees considered various restoration alternatives to compensate the public for injuries from site releases and to restore the types of natural resource services that were provided by the resources injured by the hazardous substances. The preferred restoration alternatives identified are summarized in the RCDP. In total, $20.3 million from these two natural resource damage settlements will be used to complete preferred projects identified in the RCDP consisting of ecological restoration projects, human use projects that enhance access to fishing and boating, and projects to support traditional Mohawk cultural practices, including an apprenticeship program to promote Mohawk language and traditional teachings. A portion of the funds will also support Mohawk cultural institutions including youth outdoor education programs, and horticultural programs for medicine, healing, and nutrition. Details are provided in the RCDP.

Dated: March 19, 2013.
David G. Westerholm,
Director, Office of Response and Restoration, National Ocean Service, National Oceanic and Atmospheric Administration.

[FR Doc. 2013-07822 Filed 4-3-13; 8:45 am]

BILLING CODE 3510-JE-P